FEDERAL COMMUNICATIONS COMMISSION

[FR ID 141365]

Open Commission Meeting Thursday, May 18, 2023

The Federal Communications Commission will hold an Open Meeting on the subjects listed below on Thursday, May 18, 2023, which is scheduled to commence at 10:30 a.m. in the Commission Meeting Room of the Federal Communications Commission, 45 L Street NE, Washington, DC. While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office of Engineering & Technology | Title: Amendment of Section 15.255 of the Commission's Rules (ET Docket No. 21-264).
|  | Summary: The Commission will consider a Report and Order that would provide new opportunities for unlicensed field disturbance sensor devices, such as radars, to operate in the 57-71 GHz band (60 GHz band) and foster innovative products and services while ensuring coexistence with other unlicensed technologies and Federal incumbents in the band.
2 | Wireless Tele-Communications and Office of Engineering & Technology | Title: Expanding Flexible Use of the 12.2-12.7 GHz Band (WT Docket No. 20-443); Expanding Use of the 12.7-13.25 GHz Band for Mobile Broadband or Other Expanded Use (GN Docket No. 22-352).
|  | Summary: The Commission will consider a Report and Order and Further Notice of Proposed Rulemaking that would ensure that current and future satellite services are preserved and protected in the 12.2-12.7 GHz (12.2 GHz) band by declining to authorize mobile operations in the band, while further investigating the potential to expand fixed use or permit unlicensed use. The Notice of Proposed Rulemaking and Order would continue development of a pipeline of mid-band spectrum by proposing to authorize the 12.7-13.25 GHz (12.7 GHz band) for mobile broadband and other expanded uses.
3 | Consumer & Governmental Affairs | Title: Advanced Methods to Target and Eliminate Unlawful Robocalls (CG Docket No. 17-59); Call Authentication Trust Anchor (WC Docket No. 17-97).
|  | Summary: The Commission will consider an Order, Further Notice, and Notice of Inquiry that would expand our call blocking requirements to ensure even greater protections for consumers. The item would enlist service providers in the fight against unwanted robocalls by extending our 24-hour traceback requirement to cover all voice service providers in the call path, enhancing existing requirements to effectively mitigate illegal traffic upon Commission notification and expanding our know-your-upstream-provider requirements to all voice service providers. The item would also seek comment on several other options to further enhance consumer protections, including a proposal to require terminating providers to offer analytics-based call blocking.
4 | Media | Title: Restricted Adjudicatory Matter.
|  | Summary: The Commission will consider a restricted adjudicatory matter.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: May 11, 2023.
Marlene Dortch,
Secretary.

[FR Doc. 2023-10660 Filed 5-17-23; 8:45 am]

BILLING CODE 6712-01-P